SMALL BUSINESS ADMINISTRATION

[License No. 01/01-0275]

Notice of License Surrender

Notice is hereby given that Northeast SBIC (“Northeast”), 212 Tosca Drive, Stoughton, Massachusetts 02072, has surrendered its license to operate as a small business investment company under the Small Business Investment Act of 1958, as amended (“the Act”). Northeast was licensed by the Small Business Administration on May 7, 1974.

Under the authority vested by the Act and pursuant to the regulations promulgated thereunder, the surrender of the license was accepted on January 17, 2000 and accordingly, all rights, privileges, and franchises derived therefrom have been terminated.

(Catalog of Federal Domestic Assistance Program No. 59.011, Small Business Investment Companies)
Harry E. Haskins,
Acting Associate Administrator for Investment.

[FR Doc. 01-3977 Filed 2-15-01; 8:45 am]

BILLING CODE 8025-01-P